ENVIRONMENTAL PROTECTION AGENCY

[EPA-HQ-OAR-2003-0052; FRL-9518-4]

Agency Information Collection Activities; Submission to OMB for Review and Approval; Comment Request; Risk Management Program Requirements and Petitions To Modify the List of Regulated Substances Under Section 112(r) of the Clean Air Act (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before July 25, 2012.

ADDRESSES: Submit your comments, referencing Docket ID No. EPA-HQ-OAR-2003-0052, to (1) EPA online using www.regulations.gov (our preferred method), by email to a-and-r-Docket@epa.gov or by mail to: EPA Docket Center, Environmental Protection Agency, Mail code: 28221T, 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: Sicy Jacob, Office of Emergency Management, Mail code 5104A, Environmental Protection Agency, 1200 Pennsylvania Ave. NW., Washington, DC 20460; telephone number: 202-564-8019; fax number: 202-564-2625; email address: jacob.sicy@epa.gov.

SUPPLEMENTARY INFORMATION: EPA has submitted the following ICR to OMB for review and approval according to the procedures prescribed in 5 CFR 1320.12. On February 16, 2012 (77 FR 9237), EPA sought comments on this ICR pursuant to 5 CFR 1320.8(d). EPA received no comments. Any additional comments on this ICR should be submitted to EPA and OMB within 30 days of this notice.

EPA has established a public docket for this ICR under Docket ID No. EPA-HQ-OAR-2003-0052, which is available for online viewing at www.regulations.gov, or in person viewing at the Air Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is 202-566-1744, and the telephone number for the Air Docket is 202-566-1742.

Use EPA's electronic docket and comment system at www.regulations.gov to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Risk Management Program Requirements and Petitions to Modify the List of Regulated Substances under Section 112(r) of the Clean Air Act (Renewal).

ICR numbers: EPA ICR No. 1656.14, OMB Control No. 2050-0144.

ICR Status: This ICR is scheduled to expire on July 31, 2012. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The 1990 Clean Air Act (CAA) Amendments added section 112(r) to provide for the prevention and mitigation of accidental releases. Section 112(r) mandates that EPA promulgate a list of “regulated substances” with threshold quantities and establish procedures for the addition and deletion of substances from the list of regulated substances. Processes at stationary sources that contain more than a threshold quantity of a regulated substance are subject to accidental release prevention regulations promulgated under CAA section 112(r)(7). These two rules are codified as 40 CFR part 68. Part 68 requires that sources with more than a threshold quantity of a regulated substance in a process develop and implement a risk management program and submit a risk management plan to EPA. The compliance schedule for the Part 68 requirements, established by rule on June 20, 1996, requires the implementation of the source risk management programs and the submission of initial Risk Management Plan (RMP)'s by June 21, 1999, and at least every five years after the initial submission. Sources must resubmit earlier than their next five-year deadline if they undergo certain changes to their covered processes as specified in Part 68. Therefore, after the initial submission, some sources re-submitted their RMPs prior to the next 5-year deadline because they had process changes that required an earlier update. These sources were then assigned a new five-year resubmission deadline based on the date of their revised plan submission. Most covered sources had no significant changes to their covered processes and therefore resubmitted their updated RMP on June 21, 2004. This same pattern continued through the next submission cycle—some sources updated and resubmitted their RMP prior to their next five-year deadline and were assigned a new (off-cycle) five-year deadline, but a majority of sources submitted their updated RMP on or near the next scheduled five-year resubmission deadline (June 2009). Similarly, while most sources' next submission is due in June 2014, because of off-cycle resubmission deadlines assigned to sources who have resubmitted RMPs prior to their next 5-year resubmission date, only a portion of the RMP-regulated universe has a submission deadline of June 21, 2014.

Other than the costs for gathering information and filling out the on-line RMP form, the regulations require sources to maintain on-site documentation, perform a compliance audit every three years, provide refresher training to employees, perform a hazard analysis at least every five years, etc. Some of these activities are expected to occur annually or are on-going. Some are required every three years or every five years, unless there are changes at the facility. Therefore, the burden and costs incurred by sources vary from ICR to ICR. The five-year resubmission deadline set by the regulations or assigned by EPA based on the latest RMP resubmission also will cause the burden to vary from ICR to ICR.

Burden Statement: The annual public reporting and recordkeeping burden for this collection of information is estimated to average 18 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Chemical manufacturers, petroleum refineries, water treatment systems, non-chemical manufacturers, states.

Estimated Number of Respondents: 13,558 facility respondents and 15 implementing agencies.

Frequency of Response: Every five years, unless the facilities need to update their previous submission.

Estimated Total Annual Hour Burden: 80,546.

Estimated Total Annual Cost: $6,736,212 in labor costs. There are no capital or O&M costs associated with this ICR.

Changes in the Estimates: There is a decrease of 13,436 hours for all sources and states from the previous ICR. The burden varies from ICR to ICR due to different resubmission deadlines based on the sources' RMP re-submission deadline and other regulatory deadlines. Therefore, the burden changes each year depending on how many sources have to submit their RMP and comply with certain prevention program requirements. The number of sources subject to the regulations fluctuates regularly, and is lower than in the previous ICR (13,718 sources in the previous ICR vs. 13,558 in this ICR period).

John Moses,
Director, Collection Strategies Division.

[FR Doc. 2012-15370 Filed 6-22-12; 8:45 am]

BILLING CODE 6560-50-P